DEPARTMENT OF COMMERCE

Bureau of Industry and Security

15 CFR Part 744

[Docket No. 170303229-7229-01]

RIN 0694-AH36

Addition of Certain Persons and Revisions to Entries on the Entity List

AGENCY: Bureau of Industry and Security, Commerce.

ACTION: Final rule.

SUMMARY: This rule amends the Export Administration Regulations (EAR) by adding sixteen persons to the Entity List. The sixteen persons who are added to the Entity List have been determined by the U.S. Government to be acting contrary to the national security or foreign policy interests of the United States. These sixteen persons will be listed on the Entity List under the destinations of Pakistan, Turkey and the United Arab Emirates. This final rule is also modifying two existing entries in the Entity List under the destinations of China and Hong Kong.

DATES: This rule is effective May 26, 2017.

FOR FURTHER INFORMATION CONTACT: Chair, End-User Review Committee, Office of the Assistant Secretary, Export Administration, Bureau of Industry and Security, Department of Commerce, Phone: (202) 482-5991, Email: ERC@bis.doc.gov.

SUPPLEMENTARY INFORMATION:

Background

The Entity List (15 CFR, subchapter C, part 744, Supplement No. 4) identifies entities and other persons reasonably believed to be involved, or to pose a significant risk of being or becoming involved, in activities contrary to the national security or foreign policy interests of the United States. The Export Administration Regulations (EAR) (15 CFR, subchapter C, parts 730-774) imposes additional license requirements on, and limits the availability of most license exceptions for, exports, reexports, and transfers (in-country) to those listed. The license review policy for each listed entity or other person is identified in the License Review Policy column on the Entity List, and the impact on the availability of license exceptions is described in the relevant Federal Register notice adding entities or other persons to the Entity List. BIS places entities and other persons on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote, and makes all decisions to remove or modify an entry by unanimous vote.

ERC Entity List Decisions

Additions to the Entity List

This rule implements the decision of the ERC to add sixteen persons to the Entity List. These sixteen persons are being added on the basis of § 744.11 (License requirements that apply to entities acting contrary to the national security or foreign policy interests of the United States) of the EAR. The sixteen entries added to the Entity List consist of eleven entries located in Pakistan, three entries in Turkey and two entries in the United Arab Emirates (UAE).

The ERC reviewed § 744.11(b) (Criteria for revising the Entity List) in making the determination to add these sixteen persons to the Entity List. Under that paragraph, persons for whom there is reasonable cause to believe, based on specific and articulable facts, that they have been involved, are involved, or pose a significant risk of being or becoming involved in, activities that are contrary to the national security or foreign policy interests of the United States and those acting on behalf of such persons may be added to the Entity List. Paragraphs (b)(1) through (5) of § 744.11 provide an illustrative list of activities that could be contrary to the national security or foreign policy interests of the United States.

Of the eleven entries that are being added to the Entity List under the destination of Pakistan, the ERC determined that nine of the entities—MSN International, Creative Dynamics Engineering, FACO Trading, Interscan, Micado, Premier International, Sumico Technologies, Oriental Engineers and Imam Group—are government, parastatal and private entities involved in activities that are contrary to the national security and/or foreign policy interests of the United States. The ERC determined that for one entity, KMA International Import and Export Co., information is available indicating that the company is acting and procuring items on behalf of Abdul Qader Khan Research Laboratories (AQKRL). AQKRL was added to the Entity list on November 19, 1998 (63 FR 64322).

One of the Pakistani entities, Makkays Hi-Tech Systems, is being added to the Entity List, along with two persons under the destination of the UAE, Euromoto Middle East FZE and its owner, Talaat Mehmood. The ERC determined that Makkays Hi-Tech Systems directed Euromoto Middle East FZE and Talaat Mehmood to supply U.S.-origin items, without obtaining the necessary licenses, to Pakistan's Advanced Engineering Research Organization (AERO). AERO was added to the Entity List on September 18, 2014 (79 FR 5999), based on its involvement in the procurement of sensitive U.S. technology in support of Pakistan's development of its missile and strategic unmanned aerial vehicle (UAV) programs.

This final rule also adds three persons located in the destination of Turkey—ERA Metalurji San. Ve Tic. Ltd. Sti., Mehmet Cingi and Cenk Ozturk—to the Entity List. These persons are being added on the basis of their involvement in the reexportation of U.S.-origin metal alloy powders with aerospace, missile and nuclear applications to Iran without the required license, in violation of both the EAR and the Department of the Treasury's Iranian Transactions and Sanctions Regulations (ITSR).

Pursuant to § 744.11(b) of the EAR, the ERC determined that the conduct of these sixteen persons raises sufficient concern that prior review of exports, reexports or transfers (in-country) of all items subject to the EAR involving these persons, and the possible imposition of license conditions or license denials on shipments to the persons, will enhance BIS's ability to prevent violations of the EAR.

For the sixteen persons added to the Entity List, BIS imposes a license requirement for all items subject to the EAR, and a license review policy of presumption of denial. The license requirements apply to any transaction in which items are to be exported, reexported, or transferred (in-country) to any of the persons or in which such persons act as purchaser, intermediate consignee, ultimate consignee, or end-user. In addition, no license exceptions are available for exports, reexports, or transfers (in-country) to the persons being added to the Entity List in this rule. The acronym “a.k.a.” (also known as) is used in entries on the Entity List to identify aliases and help exporters, reexporters and transferors to better identify persons on the Entity List.

This final rule adds the following sixteen persons to the Entity List:

Pakistan

(1) Creative Dynamics Engineering, a.k.a., the following one alias:

—Creative Dynamics.

66/1-M Block 6, PECHS, Karachi, Sindh 75400, Pakistan;

(2) FACO Trading,

204, Bank & Business Centre Near Duty Free Shop off Shahrah-e-Faisal, Karachi, Sindh, Pakistan;

(3) Imam Group, a.k.a., the following one alias:

—Pana Communication Inc.

Plot No. 227, St. No. 7, Sector I-9/2, Industrial Area, Near Dry Port, Islamabad, Pakistan; and 70-East A.A. Plaza, Mezz. Floor Blue Area, Islamabad 44000, Capital, Pakistan;

(4) Interscan,

Sattar Villa B, 32/1-C-1 Block-6, P.E.C.H.S., Karachi 75400i, Singh, Pakistan;

(5) KMA International Import and Export Co.,

Sector I-8/4, House No. 460, Street No. 105, Islamabad 44000, Pakistan;

(6) Makkays Hi-Tech Systems, a.k.a., the following one alias:

—Zaib Electronics.

Block 14 Civic Centre, G-6 Markaz, Islamabad, Pakistan; and Kulsum Plaza, 42 Jinnah Avenue, Islamabad, Pakistan; and Basement Khyber Plaza, Barma Town, near Barma Bridge, Lehtrar Road; and House No. 675, Street No. 19, G-9/3, Islamabad, Pakistan;

(7) Micado,

40-C, Block-6, P.E.C.H.S., Shahrah-e-Faisal, Karachi, Singh, Pakistan;

(8) MSN International,

Office No. 32/37, 1st Floor, Behind NBP, Aslam Market, Wah Cantt, Pakistan;

(9) Oriental Engineers,

11-B Main Gulberg, Lahore, Pakistan;

(10) Premier International, a.k.a., the following one alias:

—Align Impex.

Suite E-2, E-Market, DHA EME Sector, Multan Road, Lahore-54500, Pakistan; and Suite 22 1st Floor Lodhi Arcade, 42 Ferozpur Road, Lahore, Pakistan; and

(11) Sumico Technologies,

185-J-1, Muhammad Ali Johar Town, Lahore, Pakistan; and House #307-B Upper Floor Main Margalla Road, F-11/3 Islamabad, Pakistan; and House #E-26 Block A Railway Society, Gulshan-E-Jamal, Karachi, Pakistan.

Turkey

(1) Cenk Ozturk,

Aktepe Sanayi Sitesi, Kinalikar Sokak, Orta Mahalle No. 19, Orhanli—Tuzla, Istanbul, Turkey;

(2) ERA Metalurji San. Ve Tic. Ltd. Sti.,

Aktepe Sanayi Sitesi, Kinalikar Sokak, Orta Mahalle No. 19, Orhanli—Tuzla, Istanbul, Turkey; and

(3) Mehmet Cingi,

Aktepe Sanayi Sitesi, Kinalikar Sokak, Orta Mahalle No. 19, Orhanli—Tuzla, Istanbul, Turkey.

United Arab Emirates

(1) Euromoto Middle East FZE,

Q-4 136 Warehouse, Sharjah Airport International Free (SAIF) Zone, Sharjah, UAE; and Q1-08-051/B, Sharjah Airport International Free (SAIF) Zone, Sharjah, UAE; and P.O. Box 121826, Sharjah Airport International Free (SAIF) Zone, Sharjah, UAE; and

(2) Talaat Mehmood,

Q-4 136 Warehouse, Sharjah Airport International Free (SAIF) Zone, Sharjah, UAE; and Q1-08-051/B, Sharjah Airport International Free (SAIF) Zone, Sharjah, UAE; and P.O. Box 121826, Sharjah Airport International Free (SAIF) Zone, Sharjah, UAE.

Modifications to Entries on the Entity List

This final rule implements a decision of the ERC to modify two existing entries on the Entity List under the destinations of China and Hong Kong. The modifications include the addition of the name Xianfa Lin to two existing entries and the identification of the previously listed name (Alpha Lam) in these entries as an alias. This final rule does not make any other changes to these two entries, except for revising the Federal Register citation column to reflect this modification. The license requirement for these two existing entries remains for all items subject to the EAR and the license review policy remains a presumption of denial.

This final rule makes the following revisions to two entries on the Entity List:

China

(1) Xianfa Lin, a.k.a., the following one alias:

—Alpha Lam.

15H Office Building, Buji Central Plaza, Jihua Road, Buji Longgang, Shenzhen, China (See alternate address under Hong Kong).

Hong Kong

(1) Xianfa Lin, a.k.a., the following one alias:

—Alpha Lam.

Room 1041 Pacific Trade Center No. 2 Kai Hing Road, Kowloon Bay, Hong Kong (See alternate address under China).

Savings Clause

Shipments of items removed from eligibility for a License Exception or export or reexport without a license (NLR) as a result of this regulatory action that were en route aboard a carrier to a port of export or reexport, on May 26, 2017, pursuant to actual orders for export or reexport to a foreign destination, may proceed to that destination under the previous eligibility for a License Exception or export or reexport without a license (NLR).

Export Administration Act of 1979

Although the Export Administration Act of 1979 expired on August 20, 2001, the President, through Executive Order 13222 of August 17, 2001, 3 CFR, 2001 Comp., p. 783 (2002), as amended by Executive Order 13637 of March 8, 2013, 78 FR 16129 (March 13, 2013) and as extended by the Notice of August 4, 2016, 81 FR 52587 (August 8, 2016), has continued the EAR in effect under the International Emergency Economic Powers Act (15 U.S.C. 1701 et seq.). BIS continues to carry out the provisions of the Export Administration Act of 1979, as appropriate and to the extent permitted by law, pursuant to Executive Order 13222, as amended by Executive Order 13637.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications, and carries a burden estimate of 43.8 minutes for a manual or electronic submission.

Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. For the sixteen persons added to the Entity List in this final rule, the provisions of the Administrative Procedure Act (5 U.S.C. 553) requiring notice of proposed rulemaking, the opportunity for public participation and a 30-day delay in effective date are inapplicable, because this regulation involves a military or foreign affairs function of the United States (5 U.S.C. 553(a)(1)). BIS implementation of this rule is necessary to protect U.S. national security or foreign policy interests by preventing items from being exported, reexported, or transferred (in-country) to the persons being added to the Entity List. If this rule were delayed to allow for notice and comment and a delay in effective date, the entities being added to the Entity List by this action would continue to be able to receive items without a license and to conduct activities contrary to the national security or foreign policy interests of the United States. In addition, publishing a proposed rule would give these parties notice of the U.S. Government's intention to place them on the Entity List, which could create an incentive for these persons to either accelerate receiving items subject to the EAR to conduct activities that are contrary to the national security or foreign policy interests of the United States, including taking steps to set up additional aliases, change addresses, and other measures to try to limit the impact of the listing on the Entity List once a final rule is published. Further, no other law requires that a notice of proposed rulemaking and an opportunity for public comment be given for this rule.

5. The Department finds that there is good cause under 5 U.S.C. 553(b)(3)(B) to waive the provisions of the Administrative Procedure Act (APA) requiring prior notice and the opportunity for public comment for the two modifications included in this rule because, as described above, they are impracticable and are contrary to the public interest. In addition, these two changes are limited to the addition of the name of an entity on the Entity List under two entries, which will assist the public in more easily identifying this listed person on the Entity List.

6. Because a notice of proposed rulemaking and an opportunity for public comment are not required to be given for this rule by 5 U.S.C. 553, or by any other law, the analytical requirements of the Regulatory Flexibility Act, 5 U.S.C. 601 et seq., are not applicable. Accordingly, no regulatory flexibility analysis is required and none has been prepared.

List of Subjects in 15 CFR Part 744

Exports, Reporting and recordkeeping requirements, Terrorism.

Accordingly, part 744 of the Export Administration Regulations (15 CFR parts 730-774) is amended as follows:

PART 744—[AMENDED]

1. The authority citation for 15 CFR part 744 continues to read as follows:

Authority: 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 4, 2016, 81 FR 52587 (August 8, 2016); Notice of September 15, 2016, 81 FR 64343 (September 19, 2016); Notice of November 8, 2016, 81 FR 79379 (November 10, 2016); Notice of January 13, 2017, 82 FR 6165 (January 18, 2017).

2. Supplement No. 4 to part 744 is amended:

a. By revising, under China, People's Republic of, one Chinese entity “Alpha Lam, 15H Office Building, Buji Central Plaza, Jihua Road, Buji Longgang, Shenzhen, China (See alternate address under Hong Kong)”;

b. By revising, under Hong Kong, one Hong Kong entity “Alpha Lam, Room 1041 Pacific Trade Center No. 2 Kai Hing Road, Kowloon Bay, Hong Kong (See alternate address under China)”;

c. By adding, under Pakistan, in alphabetical order, eleven Pakistani entities;

d. By adding, under Turkey, in alphabetical order, three Turkish entities; and

e. By adding, under the United Arab Emirates, in alphabetical order, two Emirati entities.

The additions and revisions read as follows:

Supplement No. 4 to Part 744—Entity List

* * * * *

Country | Entity | License requirement | License review policy | Federal Register citation
* * * * * * *
CHINA, PEOPLE's REPUBLIC OF | * * * * * *
| Xianfa Lin, a.k.a., the following alias: —Alpha Lam. 15H Office Building, Buji Central Plaza, Jihua Road, Buji Longgang, Shenzhen, China (See alternate address under Hong Kong). | For all items subject to the EAR. (See § 744.11 of the EAR). | Presumption of denial. | 79 FR 32445, 6/5/14. 82 FR [INSERT FR PAGE NUMBER AND 5/26/17].
| * * * * * *
* * * * * * *
HONG KONG | * * * * * *
| Xianfa Lin, a.k.a., the following alias: —Alpha Lam. Room 1041 Pacific Trade Center No. 2 Kai Hing Road, Kowloon Bay, Hong Kong (See alternate address under China). | For all items subject to the EAR. (See § 744.11 of the EAR). | Presumption of denial | 79 FR 32445, 6/5/14. 82 FR [INSERT FR PAGE NUMBER AND 5/26/17].
| * * * * * *
* * * * * * *
PAKISTAN | * * * * * *
| Creative Dynamics Engineering, a.k.a., the following one alias: —Creative Dynamics. 66/1-M Block 6, PECHS, Karachi, Sindh 75400, Pakistan. | For all items subject to the EAR. (See § 744.11 of the EAR). | Presumption of denial | 82 FR [INSERT FR PAGE NUMBER AND 5/26/17].
| * * * * * *
| FACO Trading, 204, Bank & Business Centre Near Duty Free Shop off Shahrah-e-Faisal, Karachi, Sindh, Pakistan. | For all items subject to the EAR. (See § 744.11 of the EAR). | Presumption of denial | 82 FR [INSERT FR PAGE NUMBER AND 5/26/17].
| * * * * * *
| Imam Group, a.k.a., the following one alias: —Pana Communication Inc. Plot No. 227, St. No. 7, Sector I-9/2, Industrial Area, Near Dry Port, Islamabad, Pakistan; and 70-East A.A. Plaza, Mezz. Floor Blue Area, Islamabad 44000, Capital, Pakistan. | For all items subject to the EAR. (See § 744.11 of the EAR). | Presumption of denial | 82 FR [INSERT FR PAGE NUMBER AND 5/26/17].
| Interscan, Sattar Villa B, 32/1-C-1 Block-6, P.E.C.H.S., Karachi 75400i, Singh, Pakistan. | For all items subject to the EAR. (See § 744.11 of the EAR). | Presumption of denial | 82 FR [INSERT FR PAGE NUMBER AND 5/26/17].
| * * * * * *
| KMA International Import and Export Co., Sector I-8/4, House No. 460, Street No. 105, Islamabad 44000, Pakistan. | For all items subject to the EAR. (See § 744.11 of the EAR). | Presumption of denial | 82 FR [INSERT FR PAGE NUMBER AND 5/26/17].
| * * * * * *
| Makkays Hi-Tech Systems, a.k.a., the following one alias: —Zaib Electronics. Block 14 Civic Centre, G-6 Markaz, Islamabad, Pakistan; and Kulsum Plaza, 42 Jinnah Avenue, Islamabad, Pakistan; and Basement Khyber Plaza, Barma Town, near Barma Bridge, Lehtrar Road; and House No. 675, Street No. 19 , G-9/3, Islamabad, Pakistan. | For all items subject to the EAR. (See § 744.11 of the EAR). | Presumption of denial | 82 FR [INSERT FR PAGE NUMBER AND 5/26/17].
| * * * * * *
| Micado, 40-C, Block-6, P.E.C.H.S., Shahrah-e-Faisal, Karachi, Singh, Pakistan. | For all items subject to the EAR. (See § 744.11 of the EAR). | Presumption of denial | 82 FR [INSERT FR PAGE NUMBER AND 5/26/17].
| * * * * * *
| MSN International, Office No. 32/37, 1st Floor, Behind NBP, Aslam Market, Wah Cantt, Pakistan. | For all items subject to the EAR. (See § 744.11 of the EAR). | Presumption of denial | 82 FR [INSERT FR PAGE NUMBER AND 5/26/17].
| * * * * * *
| Oriental Engineers, 11-B Main Gulberg, Lahore, Pakistan. | For all items subject to the EAR. (See § 744.11 of the EAR). | Presumption of denial | 82 FR [INSERT FR PAGE NUMBER AND 5/26/17].
| * * * * * *
| Premier International, a.k.a., the following one alias: —Align Impex. Suite E-2, E-Market, DHA EME Sector, Multan Road, Lahore-54500, Pakistan; and Suite 22 1st Floor Lodhi Arcade, 42 Ferozpur Road, Lahore, Pakistan. | For all items subject to the EAR. (See § 744.11 of the EAR). | Presumption of denial | 82 FR [INSERT FR PAGE NUMBER AND 5/26/17].
| * * * * * *
| Sumico Technologies, 185-J-1, Muhammad Ali Johar Town, Lahore, Pakistan; and House #307-B Upper Floor Main Margalla Road, F-11/3 Islamabad, Pakistan; and House #E-26 Block A Railway Society, Gulshan-E-Jamal, Karachi, Pakistan. | For all items subject to the EAR. (See § 744.11 of the EAR). | Presumption of denial | 82 FR [INSERT FR PAGE NUMBER AND 5/26/17].
| * * * * * *
* * * * * * *
TURKEY | * * * * * *
| Cenk Ozturk, Aktepe Sanayi Sitesi, Kinalikar Sokak, Orta Mahalle No. 19, Orhanli-Tuzla, Istanbul, Turkey. | For all items subject to the EAR. (See § 744.11 of the EAR). | Presumption of denial | 82 FR [INSERT FR PAGE NUMBER AND 5/26/17].
| ERA Metalurji San. Ve Tic. Ltd. Sti., Aktepe Sanayi Sitesi, Kinalikar Sokak, Orta Mahalle No. 19, Orhanli-Tuzla, Istanbul, Turkey. | For all items subject to the EAR. (See § 744.11 of the EAR). | Presumption of denial | 82 FR [INSERT FR PAGE NUMBER AND 5/26/17].
| * * * * * *
| Mehmet Cingi, Aktepe Sanayi Sitesi, Kinalikar Sokak, Orta Mahalle No. 19, Orhanli-Tuzla, Istanbul, Turkey. | For all items subject to the EAR. (See § 744.11 of the EAR). | Presumption of denial | 82 FR [INSERT FR PAGE NUMBER AND 5/26/17].
| * * * * * *
* * * * * * *
UNITED ARAB EMIRATES | * * * * * *
| Euromoto Middle East FZE, Q-4 136 Warehouse, Sharjah Airport International Free (SAIF) Zone, Sharjah, UAE; and Q1-08-051/B, Sharjah Airport International Free (SAIF) Zone, Sharjah, UAE; and P.O. Box 121826, Sharjah Airport International Free (SAIF) Zone, Sharjah, UAE. | For all items subject to the EAR. (See § 744.11 of the EAR). | Presumption of denial | 82 FR [INSERT FR PAGE NUMBER AND 5/26/17].
| * * * * * *
| Talaat Mehmood, Q-4 136 Warehouse, Sharjah Airport International Free (SAIF) Zone, Sharjah, UAE; and Q1-08-051/B, Sharjah Airport International Free (SAIF) Zone, Sharjah, UAE; and P.O. Box 121826, Sharjah Airport International Free (SAIF) Zone, Sharjah, UAE. | For all items subject to the EAR. (See § 744.11 of the EAR). | Presumption of denial | 82 FR [INSERT FR PAGE NUMBER AND 5/26/17].
| * * * * * *
* * * * * * *

Dated: May 22, 2017.
Matthew S. Borman,
Deputy Assistant Secretary for Export Administration.

[FR Doc. 2017-10804 Filed 5-25-17; 8:45 am]

BILLING CODE 3510-33-P